DEPARTMENT OF COMMERCE

International Trade Administration

(A-122-822, A-428-815)

Notice of Final Results of Antidumping Duty Changed Circumstances Reviews and Revocation of Orders In Part: Certain Corrosion-Resistant Carbon Steel Flat Products From Canada and Germany

AGENCY: Import Administration, International Trade Administration, Department of Commerce.

SUMMARY: On February 8, 2006, the U.S. Department of Commerce (the Department) published a notice of preliminary results of changed circumstances reviews with the intent to revoke, in part, the antidumping duty orders on certain corrosion-resistant carbon steel flat products (corrosion-resistant steel) from Canada and Germany, as described below. See Preliminary Results of Antidumping Duty Changed Circumstances Reviews And Notice of Intent to Revoke Orders in Part: Certain Corrosion-Resistant Carbon Steel Flat Products from Canada and Germany, 71 FR 6447 (February 8, 2006) (Preliminary Results). In our Preliminary Results, the Department invited interested parties to comment on the request to exclude “wear plate” (described below) from the scope of these orders. The Department received no comments.

The Department concludes that producers accounting for substantially all of the production of the domestic like product to which these orders pertain lack interest in the relief provided by these orders with respect to wear plate because the domestic parties: 1) made an affirmative statement of no interest in the continuation of the orders with respect to that merchandise; and 2) did not comment on the Preliminary Results, in which the Department stated its intent to revoke the order with respect to this merchandise. Therefore, the Department concludes that it is appropriate to revoke these orders, in part, with respect to unliquidated entries of wear plate, not subject to the final results of an administrative review.

EFFECTIVE DATE: March 22, 2006.

FOR FURTHER INFORMATION CONTACT: Patrick Edwards or Abdelali Elouaradia, AD/CVD Operations, Office 7, Import Administration, International Trade Administration, U.S. Department of Commerce, 14th Street and Constitution Avenue, NW, Washington, DC 20230; telephone: (202) 482-8029 or (202) 482-1374, respectively.

SUPPLEMENTARY INFORMATION:

Background

The Department published the antidumping duty orders on corrosion-resistant steel from Canada and Germany on August 19, 1993. See Notice of Antidumping Duty Order: Corrosion-Resistant Carbon Steel Flat Products from Canada, 58 FR 44162. See also Notice of Antidumping Duty Order: Corrosion-Resistant Carbon Steel Flat Products from Germany, 58 FR 44170. On November 7, 2005, Eutectic Corporation (Eutectic), a U.S. importer, requested that the Department exclude a product commonly known as wear plate and marketed under the name of “CastoDur Diamond Plate” from the scope of these orders. See Eutectic's submissions to the Secretary, dated November 7, 2005 (Eutectic Requests).

In its requests, Eutectic asserts that certain domestic producers, i.e., United States Steel Corporation (U.S. Steel) and Mittal Steel USA ISG Inc. (formerly Bethlehem Steel Corporation, Ispat Inland Steel, and LTV Steel Company, Inc.) (Mittal USA) and certain other interested parties, i.e., Nucor Plate Group of Nucor Corporation and Ipsco Inc, do not have any interest in the continuation of the order with respect to certain wear plate products described below. The Department contacted U.S. Steel, Mittal USA, Nucor, and Ipsco on December 7, 2005, to confirm their expressed lack of interest regarding continuation of these orders with respect to certain wear plate products. See Memorandum to the File from Angelica L. Mendoza, Senior Case Analyst, Office 7, “Confirmation of Interested Parties' Lack of Interest for ‘Wear Plate’ (marketed as ‘CastoDur Diamond Plate’) to Be Subject to the Above-Captioned Antidumping Duty Orders,” dated December 7, 2005.

In response to Eutectic's request, and based on the letters from domestic producers and interested parties in these cases stating that they had no interest in retaining this product in the scope of these orders, the Department initiated these changed circumstances reviews. See Initiation of Antidumping Duty Changed Circumstances Reviews: Certain Corrosion-Resistant Carbon Steel Flat Products from Canada and Germany, 70 FR 76763 (December 28, 2005). The Department provided interested parties an opportunity to comment on the initiation of these changed circumstances reviews with respect to certain wear plate products. We did not receive any comments.

Absent any comments, on February 8, 2006, the Department preliminarily concluded that producers accounting for substantially all of the production of the domestic like product to which these orders pertain, lack interest in the relief provided by these orders with respect to certain wear plate products. See Preliminary Results, 71 FR at 6448. The Department provided interested parties an opportunity to comment on its preliminary intent to revoke the orders, in part, with respect to certain wear plate products. We did not receive any comments. Therefore, the final results of these reviews are not different from the preliminary results, and the Department is revoking the orders, in part, with respect to certain wear plate products as described in the “Scope of the Orders” section of this notice.

Scope of the Orders

The products covered by each of these orders are corrosion-resistant carbon steel flat products (corrosion-resistant steel) from Canada and Germany, respectively. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in these orders are flat-rolled products of non-rectangular cross-section where such cross-section is achieved subsequent to the rolling process (i.e., products which have been “worked after rolling”) - for example, products which have been beveled or rounded at the edges. Excluded from these orders are flat-rolled steel products either plated or coated with tin, lead, chromium, chromium oxides, both tin and lead (“terne plate”), or both chromium and chromium oxides (“tin-free steel”), whether or not painted, varnished or coated with plastics or other nonmetallic substances in addition to the metallic coating. Also excluded from these orders are clad products in straight lengths of 0.1875 inch or more in composite thickness and of a width which exceeds 150 millimeters and measures at least twice the thickness. Also excluded from these orders are certain clad stainless flat-rolled products, which are three-layered corrosion-resistant carbon steel flat-rolled products less than 4.75 millimeters in composite thickness that consist of a carbon steel flat-rolled product clad on both sides with stainless steel in a 20%%-60%%-20%% ratio. The HTSUS item numbers are provided for convenience and Customs purposes. The written description remains dispositive.

On September 22, 1999, the Department issued the final results of a changed circumstances review partially revoking the order with respect to certain corrosion-resistant steel from Germany.¹ This partial revocation applies to certain corrosion-resistant deep-drawing carbon steel strip, roll-clad on both sides with aluminum (AlSi) foils in accordance with St3 LG as to EN 10139/10140. The merchandise's chemical composition encompasses a core material of U St 23 (continuous casting) in which carbon is less than 0.08; manganese is less than 0.30; phosphorous is less than 0.20; sulfur is less than 0.015; aluminum is less than 0.01; and the cladding material is a minimum of 99%% aluminum with silicon/copper/iron of less than 1%%. The products are in strips with thicknesses of 0.07mm to 4.0mm (inclusive) and widths of 5mm to 800mm (inclusive). The thickness ratio of aluminum on either side of steel may range from 3%%/94%%/3%% to 10%%/80%%/10%%.

¹ See Final Results of Changed Circumstances Antidumping Duty and Countervailing Duty Reviews and Revocation of Orders in Part: Certain Corrosion-Resistant Carbon Steel Flat Products from Germany, 64 FR 51292 (September 22, 1999). The Department noted that the affirmative statement of no interest by petitioners, combined with the lack of comments from interested parties, is sufficient to warrant partial revocation.

As a result of these current changed circumstance reviews, also excluded from the scope of these orders are certain corrosion-resistant carbon steel flat products from Canada and Germany meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where “M” stands for the metal and “x” for the atomic ratio. An example of a common carbide would be (Cr7C3). The carbide layer is a visually distinct layer ranging in thickness from 0.062 inch to 0.312 inch with hardness at the surface of the carbide layer in excess of 55 HRC.

Final Results of Reviews and Revocation of Antidumping Duty Orders, In Part

Pursuant to sections 751(d)(1) and 782(h)(2) of the Tariff Act of 1930, as amended (the Act), the Department may revoke an antidumping duty order based on a review under section 751(b) of the Act (i.e., a changed circumstances review). Section 751(b)(1) of the Act requires a changed circumstances review to be conducted upon receipt of a request which shows changed circumstances sufficient to warrant a review.

In the instant reviews, based on the information provided by Eutectic, and comments from domestic interested parties, the Department preliminarily found that the continued relief provided by the orders with respect to certain wear plate products from Canada and Germany is no longer of interest to the domestic industry. We did not receive any comments on our Preliminary Results. Therefore, the Department is revoking the orders on corrosion-resistant steel from Canada and Germany with regard to the products that meet the specifications detailed above.

We will instruct U.S. Customs and Border Protection (CBP) to liquidate without regard to antidumping duties, and to refund any estimated antidumping duties collected on all unliquidated entries of certain wear plate products which are not covered by the final results of an administrative review or automatic liquidation. The most recent period for which the Department has completed an administrative review, or ordered automatic liquidation, is August 1, 2004, through July 31, 2005. Any prior entries are subject to either the final results of review or automatic liquidation. Therefore, we will instruct CBP to liquidate, without regard to antidumping duties, shipments of certain wear plate products entered, or withdrawn from warehouse, for consumption on or after August 1, 2005. We will also instruct CBP to pay interest on such refunds in accordance with section 778 of the Act and 19 CFR 351.222(g)(4).

These changed circumstances reviews, partial revocation of these antidumping duty orders and notice are in accordance with sections 751(b) and (d) and 782(h) of the Act and section 351.216(e) and 351.222(g)(1)(i) of the Department's regulations.

Dated: March 13, 2006.
David M. Spooner,
Assistant Secretary for Import Administration.

[FR Doc. E6-4149 Filed 3-21-06; 8:45 am]

BILLING CODE 3510-DS-S